DEPARTMENT OF TRANSPORTATION

Federal Motor Carrier Safety Administration

Qualification of Drivers; Exemption Applications; Vision

AGENCY: Federal Motor Carrier Safety Administration (FMCSA), DOT.

ACTION: Notice of denials.

SUMMARY: The FMCSA announces its denial of 102 applications from individuals who requested an exemption from the Federal vision standard applicable to interstate truck drivers and the reasons for the denials. The FMCSA has statutory authority to exempt individuals from the vision standard if the exemptions granted will not compromise safety. The agency has concluded that granting these exemptions does not provide a level of safety that will equal or exceed the level of safety maintained without the exemptions for these commercial motor vehicle (CMV) drivers.

FOR FURTHER INFORMATION CONTACT: Dr. Mary D. Gunnels, Office of Bus and Truck Standards and Operations, (MC-PSD) 202-366-4001, Department of Transportation, FMCSA, 400 Seventh Street, SW., Washington, DC 20590-0001. Office hours are 7:45 a.m. to 4:15 p.m. e.t., Monday through Friday, except Federal holidays.

SUPPLEMENTARY INFORMATION:

Background

Under 49 U.S.C. 31315 and 31136(e), FMCSA may grant an exemption from the Federal vision standard for a two-year period if it finds such an exemption would likely achieve a level of safety that is equivalent to, or greater than, the level that would be achieved absent such an exemption (49 CFR 381.305(a)).

Accordingly, FMCSA evaluated 102 individual exemption requests on their merits and made a determination that these applicants do not satisfy the criteria established to demonstrate that granting an exemption is likely to achieve an equal or greater level of safety than exists without the exemption. Each applicant has, prior to this notice, received a letter of final disposition on his/her exemption request. Those decision letters fully outlined the basis for the denial and constitute final agency action. The list published today summarizes the agency's recent denials as required under 49 U.S.C. § 31315(b)(4) by periodically publishing names and reasons for denials.

The following 52 applicants lacked sufficient recent driving experience during the three-year period prior to the date of their application:

Adkins, William I.

Alejandro, Pablo

Archambault, Gary E.

Ash, Frederick J.

Barber, Jr., Lonnie D.

Bors, Allen G.

Brooks, Marvin L.

Burlitch, Donald L.

Cleveland, Nathan P.

Collins, Gary L.

Cooper, Gregory L.

Culverwell, Gerald L.

Delain, Lash L.

Dozier, Clifton

Durer, James F.

Else, Gerald G.

Fischer, Matthew A.

Frampton, James A.

Gilleland, David J.

Gravely, Donald G.

Graves, Thomas

Haas, Kenneth L.

Hamilton, Jeffery A.

Hill, Ray C.

Hummel, Patrick B.

Jackman, Norman

Johnson, James L.

Kelly, Danny J.

Kopeshke, Edward M.

Kuhr, Howard G.

Lana, Carmelo

Langford, William D.

Leven, Hugh

Logue, William H.

Lohrbach, Carl A.

May, Timothy G.

Merritt, Russell S.

Nickel V, William F.

Pitta, Jr., Joe

Polen, Floyd L.

Provencher, Edwin J.

Roslansky, Daniel F.

Rushing, Rodger D.

Schmitt, Stephen E.

Silver, Sylvester

Smith, Jr., Eddie J.

Smith, James A.

Tapp, Carolyn O.

Towner, John C.

Turner, Glen V.

Wright, Forrest L.

Zoeller, David D.

The following seven applicants do not have experience operating a CMV and presented no evidence from which FMCSA can conclude that granting the exemption is likely to achieve a level of safety equal to that existing without the exemption:

Chiakas, Randall

Jones, Nathan B.

Loum, Mamadou

Mankowski, Joseph P.

Reid, Mark A.

Skwarek, James M.

Stewart, James C.

The following nine applicants do not have three years of experience driving a CMV on public highways with the vision deficiency:

Atwood, Jr., Ronald S.

Church, Roy D.

Hopkins, Ricky A.

Little, Edward C.

Marshall, Judy L.

Perry, Gregory L.

Peters, Carl H.

Ross, Edward

Kou, Xiong

The following five applicants do not have three years of recent experience driving a CMV with the vision deficiency.

Armstrong, Karl G.

Hagen, Brian G.

Pugh, Timothy R.

Rodriguez, Angel L.

Slate, William K.

One applicant, Shefiu O. Abdulsalam, meets the vision requirements and does not need a vision exemption.

One applicant, Quinn C. Wheaton, does not have sufficient peripheral vision in the better eye to qualify for an exemption.

Five applicants had their commercial driver's licenses suspended during the three-year review period in relation to a moving violation. Applicants do not qualify for an exemption with a suspension during the three-year review period.

Bayer, Jeffery

Rankin, Richard O.

White, Stephen R.

Willis, J. C.

Woodworth, Daniel D.

Fourteen applicants contributed to a crash while operating a CMV. Applicants do not qualify for an exemption if they have contributed to a crash during the three-year review period.

Brooks, John P.

Cromwell, Jerry G.

Dunaway, Roger M.

Hahn, George L.

Harley, Jeff D.

Harris, Bobby L.

Hummel, Timothy B.

Peculis, Brian

Pitts, Sr., Jeffery A.

Reed, Sr., Franklin D.

Robbins, Frederick G.

Shaw, Ricky D.

Smith, Raymond C.

Wesley, Loyal R.

One applicant, Timothy L. Kelly, was issued excessive nonmoving violations during the three-year period, and did not demonstrate the level of safety required for interstate driving.

Four applicants did not hold a license that allowed operation of the vehicles that they drove during the three-year review period.

Garcia, Larry G.

McQuilty, Duane A.

Shamblin, Hoyt M.

Waiters, Clifton

One applicant, John Bruins, was denied because his license was suspended for “refusing to submit to test.”

One applicant, Donnie R. Hovis, was denied because he did not hold a license that allowed operation of vehicles over 10,000 pounds for all or part of the three-year period, and was involved in a CMV crash to which he contributed. Both are disqualifying offenses.

Finally, one applicant, James W. Currie, did not have stable vision during the three-year review period.

Issued on: March 28, 2005.
Rose A. McMurray,
Associate Administrator for Policy and Program Development.

[FR Doc. 05-6473 Filed 3-31-05; 8:45 am]

BILLING CODE 4910-EX-P